DEPARTMENT OF LABOR

Veterans' Employment & Training Service

Veteran Employment Services Survey Proposed Collection; Correction

AGENCY: Veterans' Employment & Training Service.

ACTION: Notice; correction.

SUMMARY: The Veterans' Employment and Training Service published a document in the Federal Register of March 5, 2008, concerning a proposed data collection under the Veteran Employment Services Survey. The document contained an incorrect submission deadline, and an incorrect total burden cost.

FOR FURTHER INFORMATION CONTACT: Ms. Ruth M. Samardick, (202) 693-4706.

Corrections (2)

1. In the Federal Register of March 5, 2008, in FR Doc. E8-4091, on page 11956, in the third column, in the first full paragraph, correct the submission deadline listed under the DATES caption to read:

DATES: Written comments must be submitted to the office listed in the addresses section below on or before Monday, May 5, 2008.

2. In the Federal Register of March 5, 2008, in FR Doc. E8-4091, on page 11957, in the first column, one paragraph before the signature line, correct the total burden cost (operating/maintenance) to read:

Total Burden Cost (operating/maintenance): $0.

Dated: March 31, 2008.
John M. McWilliam,
Deputy Assistant Secretary, Veterans Employment and Training.

[FR Doc. E8-6964 Filed 4-3-08; 8:45 am]

BILLING CODE 4510-79-P